DEPARTMENT OF THE INTERIOR

Bureau of Land Management

[CO-SJFO-01-001EIS]

Notice of Availability of Final Environmental Impact Statement

AGENCY: Bureau of Land Management, Interior.

ACTION: Notice of Availability of the Final Environmental Impact Statement for oil and gas development on the Southern Ute Indian Reservation, in La Plata and Archuleta Counties, Colorado.

SUMMARY: Pursuant to the National Environmental Policy Act (NEPA) and implementing regulations and other applicable statutes, the Bureau of Land Management (BLM) announces the availability of a Final Environmental Impact Statement (FEIS) for Oil and Gas Development on the Southern Ute Indian Reservation, in La Plata and Archuleta Counties, Colorado. The BLM, in cooperation with the Bureau of Indian Affairs and the Southern Ute Tribe, has prepared the FEIS to provide Tribal leaders and agency decision makers with comprehensive environmental impact information on which to base oil and gas leasing and development decisions.

The BLM also involved the local community in the collaborative process through the scoping effort; outreach efforts in conjunction with the Tribal Energy and Natural Resources Departments; meetings with the San Juan Citizen's Alliance, the U.S. Fish and Wildlife Service, the Colorado Oil and Gas Conservation Commission and the Colorado Division of Wildlife.

DATES: Written comments on the FEIS will be accepted for 30 days following the date that the Environmental Protection Agency (EPA) publishes their notice of availability of the FEIS in the Federal Register. The BLM will notify all parties on this project's mailing list of the dates when comments will be accepted.

ADDRESSES: Please address questions, comments or requests for copies of the FEIS to the San Juan Public Lands Center, Attn: Walt Brown, 15 Burnett Court, Durango, CO 81301.

FOR FURTHER INFORMATION CONTACT: Walt Brown at the above address, or phone: 970-247-4874.

SUPPLEMENTARY INFORMATION: This Programmatic DEIS analyzes the potential impacts of future oil and gas development on approximately 200,000 acres of Tribal land within a 421,000-acre Study Area. Individual authorizations with appropriate NEPA analysis would be granted to operators on a site-specific project basis. The Study Area lies entirely within the exterior boundaries of the Southern Ute Indian Reservation and includes Indian mineral estate, a patchwork of Tribal and fee lands, and a small amount of State of Colorado parkland. The Indian mineral estate is held in trust by the United States of America for the benefit of the Southern Ute Indian Tribe, and the federal government retains this trust responsibility due to historical factors. The DEIS is a cooperative effort by the Southern Ute Indian Tribe, the BLM and the BIA.

Most of the Study Area is already substantially developed for both conventional gas production and coalbed methane (CBM) production. The Study Area also supports substantial agricultural and residential surface use, with lesser amounts of commercial and recreational land use.

The EPA and the BLM each published a Notice of Availability in the Federal Register on January 5, 2001. The Draft Environmental Impact Statement (DEIS) was mailed to the public in January, 2001. A public meeting for the DEIS was held, pursuant to 40 Code of Federal Regulations (CFR) 1506.6, at 6 p.m. MDT, on Tuesday, February 27, 2001 at the Rolling Thunder Hall in Ignacio, Colorado. The purpose of the meeting was to solicit public comments on the DEIS. The 60-day comment period on the DEIS ended on March 20, 2001.

The FEIS analyzes three alternatives. Alternative 1 is the no-action alternative and represents the continuation of present management and of exploration and development at rates that are similar to recent drilling and development activity rates. A total of 210 wells would be developed, including both conventional and CBM wells.

Alternative 2 considers the drilling or recompletion of an optional second well, or infill well, on a majority of CBM spacing units located on Tribal trust lands within the Study Area. This would result in an effective CBM well density of four wells per section. The increased number of wells would allow accelerated production of the resource, increase recoveries of the gas in place, and increase economic returns to the Tribe. The status quo development described in Alternative 1 is included within Alternative 2, resulting in a total of 636 new wells that would be drilled under Alternative 2, including both conventional and CBM production wells.

Alternative 3 is the Agency and Tribal preferred alternative. This alternative includes all the developments included within Alternative 2 plus the addition of Enhanced Coalbed Methane (ECBM) recovery techniques; i.e., the injection of nitrogen, carbon dioxide, or other fluids into the Fruitland Formation. For the purpose of Alternative 3, ECBM was projected to occur on almost half the Tribal CBM spacing units within the exterior boundaries of the Reservation, resulting in 70 injection wells drilled or recompleted (one injection well per every two producing wells in the injection project areas) on Tribal trust lands. Some of the injection wells may be directionally drilled off existing pads to minimize impacts and costs. Additional production wells would not be required. A total of 706 wells would be developed under Alternative 3, including conventional wells, CBM production wells, and injection wells.

Eighteen letters were received during the comment period on the Draft EIS from February 6, 2001 to March 20, 2001, and five oral comments were recorded at the public meeting on February 27, 2001. The issues that were identified in the comment letters and at the meeting included the scope of the air quality, water quality, cultural resource, socioeconomic, transportation and cumulative impact analyses; the range and detail of the alternatives; the need for additional air and water quality monitoring; the lack of analysis for 80 acre gas well spacing; and the need for additional analysis of impacts from cavitation and flaring.

All comments received on the DEIS have been addressed appropriately in the FEIS, including revisions to the document as warranted. The FEIS is not a decision document. A Record of Decision will be prepared and made available to the public following the 30-day comment period on the FEIS.

Comments on the FEIS, including names and street addresses of respondents, will be available for public review at the San Juan Public Lands Center, 15 Burnett Court, Durango, Colorado, during regular business hours (8 a.m. to 4:30 p.m.), Monday through Friday, except holidays.

Individual respondents may request confidentiality. If you wish to withhold your name or street address from public review or from disclosure under the Freedom of Information Act, you must state this prominently at the beginning of your written comment. Such requests will be honored to the extent allowed by law. All submissions from organizations or businesses, and from individuals identifying themselves as representatives of officials of organizations or businesses, will be made available for public inspection in their entirety.

Dated: June 10, 2002.
Mark Stiles,
Acting Center Manager, San Juan Public Lands Center, Colorado, Bureau of Land Management, USDI.

[FR Doc. 02-21684 Filed 8-29-02; 8:45 am]

BILLING CODE 4310-JB-P